DEPARTMENT OF TRANSPORTATION

Federal Railroad Administration

Petition for Waiver of Compliance

In accordance with Part 211 of Title 49 Code of Federal Regulations (CFR), notice is hereby given that the Federal Railroad Administration (FRA) received a request for a waiver of compliance with certain requirements of its safety standards. The individual petition is described below, including the party seeking relief, the regulatory provisions involved, the nature of the relief being requested, and the petitioner's arguments in favor of relief.

Northeast Illinois Railroad Corporation

[Docket Number FRA-2002-11502]

The Northeast Illinois Railroad Corporation, doing business as Metra, has petitioned for a permanent waiver of compliance from the requirements of the Fire Safety standard, 49 CFR 238.103, which requires materials used on the passenger car meet the test performance criteria for flammability and smoke emission characteristics as specified in appendix B to this section. Metra stated that each of its current fleet of 781 bi-level gallery cars and 165 EMU cars has an emergency tool/first aid pocket that are located on both the “A” and “B” ends of the vehicle. The pockets are covered with acrylic for two reasons, i.e., it affords rapid accessibility in case of an emergency as minimal blow is required to break the cover; and its transparency allows railroad to inspect the contents such as the fire extinguisher charge. Metra stated that the entire surface area of the acrylic is 160 square inches and the acrylic material does not meet the above-mentioned flammability and smoke emission standards. Metra also stated that it tried to consider an alternative material—Lexan, and found it unacceptable due to the reduced accessibility and cutting hazards when it is broken. Metra is in the process of ordering 300 new gallery and EMU cars.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket Number FRA-2002-11502) and must be submitted to the Docket Clerk, DOT Central Docket Management Facility, Room PL-401, Washington, DC 20590-0001. Communications received within 45 days of the date of this notice will be considered by FRA before final action is taken. Comments received after that date will be considered as far as practicable. All written communications concerning these proceedings are available for examination during regular business hours (9 a.m.-5 p.m.) at the above facility. All documents in the public docket are also available for inspection and copying on the Internet at the docket facility's Web site at http://dms.dot.gov.

Issued in Washington, DC, on February 25, 2002.
Grady C. Cothen, Jr.,
Deputy Associate Administrator for Safety Standards and Program Development.

[FR Doc. 02-4766 Filed 2-27-02; 8:45 am]

BILLING CODE 4910-06-P